DEPARTMENT OF ENERGY

Federal Energy Regulatory Commission

Combined Notice of Filings #1

May 13, 2010.

Take notice that the Commission received the following electric rate filings:

Docket Numbers: ER10-895-002.

Applicants: The Detroit Edison Company.

Description: Detroit Edison Company submits Second Revised Service agreement 12 to FERC Electric tariff, Original Volume 4.

Filed Date: 05/12/2010.

Accession Number: 20100512-0215.

Comment Date: 5 p.m. Eastern Time on Wednesday, June 02, 2010.

Docket Numbers: ER10-1230-000.

Applicants: The Detroit Edison Company.

Description: Detroit Edison Company submits an unexecuted service agreement.

Filed Date: 05/12/2010.

Accession Number: 20100512-0217.

Comment Date: 5 p.m. Eastern Time on Wednesday, June 02, 2010.

Docket Numbers: ER10-1231-000.

Applicants: The Detroit Edison Company.

Description: Detroit Edison Company submits unexecuted Wholesale Distribution Service Agreement.

Filed Date: 05/12/2010.

Accession Number: 20100512-0216.

Comment Date: 5 p.m. Eastern Time on Wednesday, June 02, 2010.

Docket Numbers: ER10-1232-000.

Applicants: Tampa Electric Company.

Description: Tampa Electric Company submits Second Revised Sheet 94 et al. for inclusion in its open access transmission tariff.

Filed Date: 05/12/2010

Accession Number: 20100512-0214.

Comment Date: 5 p.m. Eastern Time on Wednesday, June 02, 2010.

Docket Numbers: ER10-1233-000.

Applicants: Southwest Power Pool, Inc.

Description: Southwest Power Pool Inc. submits an unexecuted Large Generator Interconnection Agreement.

Filed Date: 05/12/2010.

Accession Number: 20100513-0202.

Comment Date: 5 p.m. Eastern Time on Wednesday, June 02, 2010.

Docket Numbers: ER10-1236-000.

Applicants: Arizona Public Service Company.

Description: Arizona Public Service Company submits amendment to its Cost-based Tariff, FERC Electric Tariff Volume 5.

Filed Date: 05/13/2010.

Accession Number: 20100513-0215.

Comment Date: 5 p.m. Eastern Time on Thursday, June 03, 2010.

Docket Numbers: ER10-1237-000.

Applicants: Westar Energy, Inc.

Description: Westar Energy, Inc. submits an executed Cost-Based Agreement for Wholesale Power Sales Service from Generating Assets Likely to Participate dated 4/29/2010.

Filed Date: 05/13/2010.

Accession Number: 20100513-0214.

Comment Date: 5 p.m. Eastern Time on Thursday, June 03, 2010.

Docket Numbers: ER10-1240-000.

Applicants: The Cleveland Electric Illuminating Comp.

Description: The Cleveland Electric Illuminating Company submits tariff filing per 35.12: Market-Based Power Sales Tariff to be effective 5/13/2010.

Filed Date: 05/13/2010.

Accession Number: 20100513-5072.

Comment Date: 5 p.m. Eastern Time on Thursday, June 03, 2010.

Docket Numbers: ER10-1241-000.

Applicants: The Toledo Edison Company.

Description: The Toledo Edison Company submits tariff filing per 35.12: Market-Based Power Sales Tariff to be effective 5/13/2010.

Filed Date: 05/13/2010.

Accession Number: 20100513-5092.

Comment Date: 5 p.m. Eastern Time on Thursday, June 03, 2010.

Docket Numbers: ER10-1242-000.

Applicants: Consolidated Edison Energy, Inc.

Description: Consolidated Edison Energy, Inc. submits tariff filing per 35.12: Baseline filing of Consolidated Edison Solutions, Inc. MBR to be effective 5/13/2010.

Filed Date: 05/13/2010.

Accession Number: 20100513-5128.

Comment Date: 5 p.m. Eastern Time on Thursday, June 03, 2010.

Take notice that the Commission received the following electric reliability filings:

Docket Numbers: RR08-4-005.

Applicants: North American Electric Reliability Corporation.

Description: North American Electric Reliability Corporation submits supplemental information regarding the March 5, 2010 Violation Severity Level Compliance Filing.

Filed Date: 05/05/2010.

Accession Number: 20100505-5112.

Comment Date: 5 p.m. Eastern Time on Thursday, May 20, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-12390 Filed 5-21-10; 8:45 am]

BILLING CODE 6717-01-P